Proclamation 10212 of May 14, 2021

National Defense Transportation Day and National Transportation Week, 2021

By the President of the United States of America

A Proclamation

Since our Nation's founding, our transportation infrastructure has enabled our economic growth and enhanced our national security. From the American merchant ships that carried supplies to support military operations during the Revolutionary War, to the Erie Canal opening the Midwest and West for growth, to the transcontinental railroad linking our Nation after the Civil War; to the interstate highway system transforming the way we travel, live, and work, our transportation infrastructure has supported national defense and powered interstate commerce. On National Defense Transportation Day and during National Transportation Week, we take time to recognize the transformational role infrastructure has played throughout our history, and reflect on the work and investment required to build an even stronger, more sustainable, and more equitable transportation system of the future.

America's transportation system has always proven vital for civilian and military organizations, something we have seen demonstrated in our Nation's response to the COVID-19 pandemic. Dedicated workers, using a comprehensive transportation plan, including airports, highways, railroads, waterways, and public transit, enabled the Federal Government to distribute tens of millions of COVID-19 vaccines and helped us deliver over 200 million shots in my first 100 days as President.

Even as we recognize the essential nature of our transportation system, we must recognize that the system was built in a way that harmed vulnerable communities, does not provide equal services to all people, creates harmful local pollution, and contributes to climate change. We also must address the fact that decades of disinvestment and neglect have caused our roads, bridges and water systems to fall into disrepair.

A disproportionate number of infrastructure needs occur in underserved or underrepresented communities where people depend upon transportation systems for work and daily activities. The lack of affordable transportation options means lack of access to good-paying jobs, education, and health care. Modern and resilient infrastructure supporting reliable and affordable transportation options make the American Dream possible for all of us, regardless of geography, race, disability, or economic status.

For all of these reasons, I have proposed an American Jobs Plan that will modernize 20,000 miles of highways, roads, and main streets, fix the Nation's 10 most economically significant bridges in America in need of replacement, and repair 10,000 bridges desperately in need of upgrades to unclog traffic, keep people safe, and connect our cities, towns, and Tribes across the country. It will build back a better transportation system—one that is resilient to floods, fires, and storms, and provides equitable, affordable access to opportunity for all Americans.

The American Jobs Plan will replace buses and rail cars, build new rail corridors and transit lines—easing congestion, cutting pollution, slashing commute times, and opening up investment in communities that can be connected to city centers. It will reduce the bottlenecks of commerce at our ports and airports. The plan will also create good-quality jobs paying prevailing wages in safe and healthy workplaces while ensuring workers have a free and fair choice to organize, join a union, and bargain collectively with their employers.

As our Nation recovers from the COVID-19 pandemic and the economic destruction it caused, we have a chance to build back better by focusing on infrastructure that reconnects communities, provides equitable access to transportation services, and mitigates the devastating effects of climate change.

This month we recognize the dedicated men and women who kept this Nation moving during the depths of a global pandemic: The truckers who delivered groceries to empty store shelves; the airline crews who flew medical workers to COVID-19 hotspots; the United States military members who remained on the front lines to distribute and administer vaccines in record time; and the transportation workers who kept our systems running as economies shut down. We thank you for serving the American people and the traveling public.

In recognition of the ongoing contributions of our Nation's transportation system and in honor of the devoted professionals who work to sustain its tradition of excellence, the United States Congress has requested, by joint resolution approved May 16, 1957, as amended (36 U.S.C. 120), that the President designate the third Friday in May of each year as “National Defense Transportation Day” and, by joint resolution approved May 14, 1962 (36 U.S.C. 133), that the week in which that Friday falls be designated as “National Transportation Week.”

NOW, THEREFORE, I, JOSEPH R. BIDEN JR., President of the United States of America, do hereby proclaim Friday, May 21, 2021, as National Defense Transportation Day and May 16 through May 22, 2021, as National Transportation Week. I urge all Americans to observe these occasions with appropriate ceremonies, programs, and activities as we show our appreciation to those who build and operate our Nation's transportation systems.

IN WITNESS WHEREOF, I have hereunto set my hand this fourteenth day of May, in the year of our Lord two thousand twenty-one, and of the Independence of the United States of America the two hundred and forty-fifth.

[FR Doc. 2021-10689

Filed 5-18-21; 8:45 am]

Billing code 3295-F1-P